DEPARTMENT OF JUSTICE

Antitrust Division

Notice Pursuant to the National Cooperative Research and Production Act of 1993—DVD Copy Control Association

Notice is hereby given that, on December 29, 2004, pursuant to section 6(a) of the National Cooperative Research and Production Act of 1993, 15 U.S.C. 4301 et seq. (“the Act”), the DVD Copy Control Association (“DVD CCA”) has filed written notifications simultaneously with the Attorney General and Federal Trade Commission disclosing changes in its membership. The notifications were filed for the purpose of extending the Act's provisions limiting the recovery of antitrust plaintiffs to actual damages under specified circumstances. Specifically, Accel Technology Co., Ltd., Osaka, JAPAN; APOS Corporation, Taipei City, TAIWAN; ArcSoft Inc., Fremont, CA; AutoSound Electronic (HK) Limited, Hong Kong, HONG KONG-CHINA; CCE da Amazônia S.A., Sao Paulo, BRAZIL; Citron Electronic Co., Ltd., Hong Kong, HONG KONG-CHINA; Dailystar Technology Limited, Hong Kong, HONG KONG-CHINA; DigiOn, Inc., Fukuoka, JAPAN; Elsässer GmbH, Horb, GERMANY; FLX Electronics (Shenzhen) Ltd., Shenzhen, PEOPLE'S REPUBLIC OF CHINA; G3 Mastering Solutions, Inc., Commerce, CA; Genesis Microchip Inc., Alviso, CA; Lightcomm Technology Co., Ltd., Hong Kong, HONG KONG-CHINA; Marvell International Ltd., Hamilton, BERMUDA; Meiloon Industrial Co., Ltd., Taoyuan City, TAIWAN; Multi-Concept Industrial Ltd., Hong Kong, HONG KONG-CHINA; Nucom Technology Corporation, Taipei, TAIWAN; Paramount Digital Technology (Huizhou) Co., Ltd., Huizhou, PEOPLE'S REPUBLIC OF CHINA; Schotten Glassmastering—an der Heiden GmbH, Schotten, GERMANY; Soaring Technology Co., Ltd., Taipei-Hsien, TAIWAN; Storewell Medial Manufacturing Ltd., Taipei, TAIWAN; Sunext Technology Corporation Limited, Hsin-Chu, TAIWAN; and Zensonic Corporation Pty Ltd., Lonsdale, South Australia, AUSTRALIA have been added as parties to this venture.

Also, Amusewell Technology Corp., Taipei, TAIWAN; Condor CD S.L., Calatayud, SPAIN; L&M Optical Disc West, LLC, Valencia, CPA; Media Solutions, Paris, FRANCE; Shenzhen Paragon Industries (China), Shenzhen Guangdong, PEOPLE'S REPUBLIC OF CHINA; Shenzhen Contel Electronics Technology, Shenzhen, PEOPLE'S REPUBLIC OF CHINA; Techsan I&C Co., Ltd., Gyeonggi-Do, REPUBLIC OF KOREA; and Yuxing Electronics Company Limited, Beijing, PEOPLE'S REPUBLIC OF CHINA have withdrawn as parties to this venture. Also, Time Group Ltd. has changed its name to Granville Technology Group Limited, Burnley, Lancashire, UNITED KINGDOM.

No other changes have been made in either the membership or planned activity of the group research project. Membership in this group research project remains open, and DVD CCA intends to file additional written notification disclosing all changes in membership.

On April 11, 2001, DVD CCA filed its original notification pursuant to Section 6(a) of the Act. The Department of Justice published a notice in the Federal Register pursuant to section 6(b) of the Act on August 3, 2001 (66 FR 40727).

The last notification was filed with the Department on October 1, 2004. A notice was published in the Federal Register pursuant to section 6(b) of the Act on November 29, 2004 (69 FR 69393).

Dorothy B. Fountain,
Deputy Director of Operations, Antitrust Division.

[FR Doc. 05-1987 Filed 2-1-05; 8:45 am]

BILLING CODE 4410-11-M